DEPARTMENT OF JUSTICE

Office for Victims of Crime

[OJP(OVC)-1355]

Notice of Solicitation for Victim Services

AGENCY: Office for Victims of Crime, Office of Justice Programs, Justice.

ACTION: Notice of solicitation.

SUMMARY: Notice is hereby given that the Office for Victims of Crime is requesting applications for the Victim Services solicitation, which has two components. The first component is for awards that will support the creation and/or enhancement of collaborative networks that will provide comprehensive services for persons identified as trafficking victims in federal investigations or prosecutions within the United States. The second component of the Victim Services solicitation is for awards to be made to eligible entities to provide discrete (single service, such as housing, legal, or medical), episodic, and rapid-response victim services nationwide wherever and whenever trafficking victims are identified in the course of a federal investigation or prosecution.

DATES: Applications for competitive programs must be received (not postmarked) at the OVC Training and Technical Assistance Center located at the address below on Monday, June 29, 2002, no later than 5:30 eastern standard time. OVC will not grant extensions of the due date.

ADDRESSES: All applications should be addressed to Office for Victims of Crime, c/o OVC Training and Technical Assistance Center, 10530 Rosehaven Street, Suite 400, Fairfax, Virginia 22030 (telephone 703-385-3200). Applicants must clearly write the name of the program begin applied for in the lower left corner of the envelope. OVC does not accept faxed submissions. Please be advised that if an application does not reach the OVC Training and Technical Assistance Center (TTAC) by the due date, it will not be considered for funding regardless of the postmark date.

FOR FURTHER INFORMATION CONTACT: Michelle Avery Weston, Program Specialist (telephone 202-514-5084 or e-mail averym@ojp.usdoj.gov). Interested applicants should obtain the OVC FY 2002 Services for Trafficking Victims Discretionary Grant Application Kit. This application kit provides the necessary information and guidance for preparing and submitting an application for an OVC Services for Trafficking Victims Discretionary grant program award. Section I of the application kit contains solicitation for the two competitive programs. Section II presents general application requirements and includes the required application forms. To request applicant kits, please call the OVC Resource Center at 1-800-627-6872 or call the OVC Reply Line at 202-616-1926. In addition, the application kit can be downloaded from the OVC World Wide Web home page at www.ojp.usdoj.gov/ovc.

SUPPLEMENTARY INFORMATION: Type of Award: Two types of cooperative agreements for victim services will be awarded under this program:

A. Comprehensive Services

These awards will support the creation and/or enhancement of collaborative networks that will provide comprehensive services for persons identified as trafficking victims ¹ in federal investigations or prosecutions within the United States. Applicants must demonstrate the capacity to quickly mobilize resources to accommodate the needs of identified victims and to provide services to them. In addition to providing direct victim services, Comprehensive Services sites also will collaborate with a national training and technical assistance provider and evaluator to document activities, collect and share data, and produce protocols and other materials to facilitate replication, mentoring, and technical assistance provision in other localities. (For a more complete description of these awards, please see the Program Strategy section below.)

¹ As defined by statute, victims of trafficking are persons who have been subjected to: (1) Sex trafficking in which a commercial sex act is induced by force, fraud, or coercion, or in which the person induced to perform such act has not attained 18 years of age; or (2) the recruitment, harboring, transportation, provision, or obtaining of a person for labor or services, through the use of force, fraud, coercion, for the purpose of subjection to involuntary servitude, peonage, debt bondage, or slavery. Sex trafficking is defined as the recruitment, harboring, transportation, provision, or obtaining of a person for the purpose of a commercial sex act. 22 U.S.C. 7102 (8); (9); (14).

B. Supplemental/Specialized Services

These awards will be made to eligible entities to provide discrete (single service, such as housing, legal, or medical), episodic, and rapid-response victim services nationwide wherever and whenever trafficking victims are identified in the course of a federal investigation or prosecution. Applicants must specify the maximum number of victims that can be provided services at any given time. Applicants must demonstrate the ability to quickly mobilize resources to accommodate the needs of identified victims and to coordinate with other trafficking program grantees (Comprehensive Services funding recipients, national training and technical assistance provider, and evaluator) and other service providers to the extent possible. (For a more complete description of these awards, please see the Program Strategy section below.)

For both types of awards contemplated by this grant program, services for trafficking victims should address victims' needs during the “precertification” period. (This is the period of time between when trafficking victims are initially identified by law enforcement and officially certified by the Federal Government as such.) Once trafficking victims have received certification, they become eligible to apply for a number of benefits and services provided through federally funded programs. Prior to certification, victims' needs are acute and largely unmet. Therefore, funding under this program is intended primarily to meet victims' precertification needs. Applicants for funding should indicate how they propose to meet such needs and the maximum number of victims that the applicant can serve.

Number and Amount of Awards: No set number of awards has been established for this program. Award amounts will vary depending on the types of services to be provided and the number of victims anticipated to be served. For further information, please see the “Budget” subheading under the “Selection Criteria” section below.

Interested parties may apply for both types of awards. For example, an applicant for a Comprehensive Services award to provide trafficking victim services within a defined geographic area also may apply for a Supplemental/Specialized Services award to provide additional victim services beyond those services contemplated under the applicant's Comprehensive Services proposal. Applications will be reviewed carefully to assess the applicant's capability to provide both types of services and avoid duplication of efforts. Small organizations are specifically invited to apply for funding under this grant program to provide services to trafficking victims. Applicants must indicate in their applications the type of award for which they are applying: Comprehensive Services or Supplemental/Specialized Services, or both. If applications are submitted for both, the applicant must describe how funded activities will complement and not duplicate one another.

Award Period: 12-36 months, in increments of 12 months. Applicants must indicate whether they are applying for 12, 24, or 36 months of funding.

Goal: The goal of the Services for Trafficking Victims Discretionary Grant Program is to develop, expand, or strengthen victim service programs for victims of trafficking.

Purpose(s): The purpose of this grant program is to provide comprehensive services for victims of trafficking by building on existing community resources to meet the unique needs of victims, particularly during the precertification period when victims' needs are especially urgent. Specifically, this project aims to:

• Develop, expand, or strengthen victim service programs for victims of trafficking.

• Strengthen the collaboration and cooperation between existing agencies and organizations that serve or have the capacity to serve trafficking victims to build an effective, comprehensive system or network of services to respond to the needs of victims of severe forms of trafficking in the federal criminal justice system.

• Support the development of services and programs currently unavailable to assist trafficking victims as additional components of an integrated system.

• Provide training to increase the awareness among criminal justice entities, social services providers, and the public of the rights and needs of trafficking victims.

• Support the ability of trafficking victims to cooperate with law enforcement and prosecutors in trafficking cases.

Background/Problem Statement: Trafficking in persons includes the recruitment, transportation, or sale of persons (males and females, adults and children) for labor or services through the use of force, fraud, or coercion for the purpose of subjection to involuntary servitude, peonage, debt bondage, or slavery. Many trafficking victims are forced to work in the sex trade; however, other trafficking situations exist, including domestic servitude, labor in a prison-like factory, or migrant agricultural work.

Trafficking in persons is a significant, yet still largely undetected crime. Although there are no hard data on the number of cases nationally, the Federal Government estimates that 50,000 women and children are trafficked into the United States each year. Estimates by nongovernmental organizations (NGOs) working on trafficking issues are much higher, at more than 2 million victims each year. Victims often come from economically disadvantaged circumstances, have little or no formal academic or skills training, and therefore have limited opportunity for economic independence. In some cases, victims have received a formal education but due to limited economic opportunities in their home country they have fallen prey to traffickers' false promises of legitimate, well-paying jobs in the United States. Regardless of their background, victims typically feel great shame and responsibility for their victimization.

Trafficking victims' service needs are complex and acute. While victims share some of the same needs as other types of victims, such as victims of domestic violence, trafficking victims also require additional services. For example, victims trafficked into the United States from other countries typically experience language and communication barriers and lack information about their legal rights under federal and state laws, the legal process, or availability of crime victim assistance.

According to many experts, one of the critical needs of trafficking victims is appropriate and adequate shelter. Victims also may need mental health treatment, both crisis counseling and longer-term support, as well as emergency and ongoing medical attention. Other victims' needs include social services advocacy to help victims understand and access available benefits. All services provided to victims should be provided in a culturally sensitive manner, taking into account victims' linguistic, cultural, and religious identity.

Unfortunately, trafficking victims face many barriers that prevent them from accessing necessary services. Due to the nature of the crime, in which trafficking victims often are held hostage and isolated from others, they are prevented from learning about their legal rights or the services available to them. They often have a great fear of deportation by the Immigration and Naturalization Service (INS) and/or detention by local law enforcement agencies, a fear that is manipulated and exploited by traffickers to keep victims isolated and under their control.

Given the diversity of trafficking victims' origins and the forms of their victimization, multiple service needs, barriers to accessing services, and the fact that trafficking cases with numerous victims may surface anywhere in the country, the challenges faced by service providers are clear. Existing service providers have been called on to develop and deliver expanded services on an ad hoc basis, often at a moment's notice and without receiving additional resources to support these expanded services. Many service providers throughout the United States remain unaware of the crime, the needs of victims, the existing services for trafficking victims in their area, if any, and the need to coordinate among government and nongovernment entities at all levels (local, state, regional, tribal, and federal).

In recognition of the critical circumstances faced by trafficking victims, Congress enacted the Trafficking Victims Protection Act of 2000 (Pub. L. 106-386), 22 U.S.C. 7101 et. seq., to respond and combat trafficking in persons. In addition to establishing new tools and resources to prevent and prosecute trafficking in persons, this legislation also authorizes a new array of services and protections for victims. Congress appropriated $10 million in funding to the Department of Justice to support the development or enhancement of victim services programs for trafficking victims.

Program Strategy: An ideal response to the acute and complex needs of trafficking victims should be based on a comprehensive approach that incorporates all necessary victim support services (provided in-house, via collaboration with community-based resources, or via supplemental assistance from a specialized service provider) to address the needs of persons identified as trafficking victims in federal criminal investigations and prosecutions. This initiative aims to develop, expand, or strengthen victim service programs for victims of trafficking in two distinct yet complementary ways, which are described below.

For both types of awards, applicants must identify the need they seek to address with project funding, such as the presence of identified or suspected trafficking victims and the lack of services to meet their needs. Applicants for Comprehensive Services also must demonstrate the capacity to perform the intensive case management and record keeping needed to adequately serve trafficking victims. Applicants for Supplemental/Specialized Services also must demonstrate the willingness and capacity to collaborate with the service delivery and case management efforts of other victim service providers.

A. Comprehensive Services

Awards for Comprehensive Services are intended to build collaborative and/or community-based networks of comprehensive, integrated, and culturally appropriate services for trafficking victims within a defined geographical area, such as a city, state, or region of the United States.² Projects funded to provide comprehensive services will have several components/phases:

² The phrase United States refers to the 50 states of the United States, the District of Columbia, the Commonwealth of Puerto Rico, the U.S. Virgin Islands, American Samoa, Guam, the Commonwealth of the Northern Mariana Islands, and the territories and possessions of the United States. 22 U.S.C. 7102(12).

• Coordination and collaboration with other agencies.

• Assessment of existing services, resources, and needs.

• Coalition building and outreach (identify key partners and roles).

• Development and implementation of a comprehensive victim services model.

• Development of a plan to sustain the project after OVC funding ends.

• Collection of data for program information dissemination and program evaluation purposes.

Coordination and Collaboration With Other Agencies

An ideal trafficking victim response should provide a comprehensive approach to address the acute needs of trafficked persons by either directly providing services or coordinating access to services that provide shelter and sustenance, general health and mental health care, legal services, job skills training, and cultural support from the community and educational services. Given the unique circumstances of trafficking victims, the proposed community response should incorporate both governmental and nongovernmental (community-based) social service entities in an advisory and/or service provision capacity. Applications should describe how applicants will coordinate with law enforcement agencies in providing services to victims of trafficking.

Key partners/actors should include (but are not limited to):

Federal, state, and local law enforcement, investigative, and prosecutorial agencies

City and/or county governments

State or local government social services agencies

Community-based service providers

Shelter providers

Mental health care providers

Medical care providers

Immigrant advocacy providers

Legal services providers

Faith-based organizations

Local civic and business community

Other collaborative partners may include (but are not limited to):

State VOCA Victim Compensation and Assistance Administrators

Professional affiliation associations

Institutions of professional education

Assessment of Existing Services, Resources, and Needs

Services needed by trafficking victims include (but are not limited to):

• Shelter/housing and sustenance (emergency and long term).

• Medical and mental health care (emergency and long term).

• Special services for child/juvenile victims.

• Interpreter/translator services.

• Criminal justice system-based victim advocacy.

• Legal services.

• Social services advocacy (explanation of benefit entitlements/availability).

• Explanation of legal rights and protections.

• Literacy education and/or job training.

• Outreach services directed toward immigrant populations.

• Transportation.

For application purposes, applicants should identify and provide a description of existing victim services or other community resources to serve trafficking victims. Applicants also should provide data regarding the number and types of trafficking victims already served (if any). In addition, applications for funding should describe the assessment plan or process applicants will use to further identify and assess community resources, services, and needs for trafficking victims. If applicants already have conducted such needs assessments, their applications should describe how the assessment was conducted, provide a summary of the assessment findings, and describe how applicants propose to develop or enhance victim services based on existing community resources (rather than creating a new set of narrowly tailored services). Specifically, applicants should identify existing resources and describe how they propose to adapt or expand those resources to meet the full range of victim needs throughout the various stages of recovery that victims experience.

In addition to the specific needs listed above, trafficking victims often also have important safety, security, privacy, and confidentiality concerns; therefore applicants' assessments of existing resources and needs should discuss available resources to promote victims' safety, security, privacy, and confidentiality. Applicants' assessments also should discuss the cultural competency of available resources and services, if known, or describe how such competency will be assessed, if not known. Other resources for developing cultural competency, such as available training options, also should be described.

Coalition Building and Outreach

Applications for funding should identify key community partners and their respective roles and responsibilities in providing services to trafficking victims. Additionally, applicants should indicate how they propose to perform outreach/coordination to educate government agencies and NGOs about trafficking to increase/enhance identification of victims.

Applicants should describe how they will perform community outreach through both formal and informal collaborative mechanisms among service providers and the local/state/federal criminal justice systems. Applicants should have the capacity to network and reach out to federal, state, and local justice systems. Effective working relationships with law enforcement at all levels will improve the law enforcement response, such as law enforcement's expertise in appropriately identifying and serving trafficking victims, and also facilitate the participation of trafficked persons as witnesses in the investigation and prosecution of traffickers. Applicants should describe previous experience in providing or coordinating victim responses with federal law enforcement agencies investigating or prosecuting trafficking or similar cases, or in situations involving mass trauma or torture.

Victims who are returned home to other countries often are socially ostracized, particularly in the cases of sexual exploitation and victimization, in which victims also have particular health care needs as well. Applications for funding should indicate an applicant's willingness and/or ability to collaborate with international organizations, government agencies, and NGOs to provide appropriate and safe repatriation and reintegration for trafficked persons who are going back home. (Please note that funding under this program is available only to entities in the United States for services to victims in the United States.)

Applications for Comprehensive Services awards must include, as an attachment, a Letter of Intent developed and signed by the directors of all participating agencies that will collaborate to plan, develop, and implement the project. The Letter of Intent must:

• Provide a brief history of the collaborative relationship among the partners, including when and under what circumstances the relationship began and when each partner entered into the relationship. If the collaboration will begin with this project indicate such intent.

• Specify the extent of each party's participation in developing the application.

• Clearly delineate the roles and responsibilities each organization or agency would assume to ensure the success of the proposed project.

• Describe each partner's awareness of or experience in working with federally funded benefits-issuing programs and agencies.

• Identify the representatives of the planning and development team who would be responsible for planning, developing, and implementing project activities and describe how they would work together and with project staff.

• Demonstrate a commitment on the part of all partners to work together to achieve project goals.

• Indicate approval of the proposed project budget by all signing parties.

• Describe the resources each partner would contribute to the project, either through time, in-kind contributions, or grant funds (for example, office space, project staff, training).

Development and Implementation of Comprehensive Victim Services Model

The crime of trafficking requires more than just a law enforcement or victim service response, but a collaborative and integrative effort to address special needs and circumstances. Victim service programs for trafficking victims should help alleviate the practical and cultural barriers that keep victims from turning to law enforcement for help. In addition, service providers must have the capacity to perform case management and protocol development to coordinate the multiple services needed by trafficking victims.

In all applications for funding, applicants must provide a strategy for providing and/or obtaining appropriate services, such as housing, legal, mental health, and medical services for victims. Applications should describe the specific steps that applicants will take to serve trafficking victims, including procedures for initial intake and assessment of victims' needs, development of an individualized service plan, provision and coordination of services, periodic assessment of whether victims' needs are being met, documentation of referrals and services delivered, and modification of services as appropriate throughout victims' recovery. For example, providers should describe their capacity to conduct necessary and appropriate intake assessments, such as health, mental health, and safety evaluations, primarily to identify victim needs, but also to minimize health and safety risks to other victims being served. For all tasks described above, applications also should describe the staff resources (i.e., number of staff and their roles and responsibilities) to be dedicated to accomplishing the tasks.

Development of Plan To Sustain the Project After OVC Funding Ends

All applicants should provide information on the potential for generating community and individual support for the project to sustain the project once federal funding ends, and the steps they will take to explore resources and develop a plan to sustain services to trafficking victims if awarded funding. As significant lead time often is necessary to build community support and garner financial resources, funding recipients should begin soon after receiving an award to develop a detailed plan for maintaining services to trafficking victims in the absence of federal funding.

Collection of Data for Program Information Dissemination and Program Evaluation Purposes

Evaluation is necessary to ensure that Comprehensive Services projects meet their goals in terms of the process and impact on trafficking victims. Documentation of projects also will facilitate replication/adaptation of best practices in other locations. All Comprehensive Services projects must collect data on their operation and effectiveness in assisting trafficking victims.

The objectives of the evaluation are:

• To document project interventions, implementation processes, and key factors affecting successful implementation, including levels of collaboration and sustainability.

• To document the impact of service interventions by capturing and reporting data on victims from initial intake through exit interviews.

Comprehensive Services award recipients will have two major evaluation responsibilities. First, grantees must collect process evaluation data and generate process evaluation reports following guidelines to be developed by the independent evaluator for this Trafficking Program. Second, award recipients will establish an information management system to generate, collect, store, and report outcome data designated by the independent evaluator.

To address their capability to successfully perform these tasks, Comprehensive Services applicants should provide detailed information in their applications regarding their proposed methodology for monitoring program activities. Applicants also must state that they have or will create an electronic infrastructure capable of fully supporting data collection for the project and that they will have sufficient qualified staff to carry out these responsibilities.

In addition to the evaluation plan required of all applicants for collecting data about the project and its progress, a small number of sites will be identified for further evaluation. An important purpose of this demonstration program is to gain a better understanding of how best to serve the needs of trafficking victims. As a result, one or two Comprehensive Services sites will be selected to work with an independent evaluator to study the activities funded under this solicitation. Comprehensive Services sites chosen to participate in the evaluation will have the unique opportunity to receive indepth feedback on their program as well as participate in the groundbreaking work of identifying elements of an effective integrated service delivery system for trafficking victims. Criteria for selecting the Comprehensive Services sites to be evaluated will be developed by the evaluator in conjunction with OVC, but an appreciation by project staff of the significance of this evaluation will be an important factor. Accordingly, applicants who would be interested in being selected as one of these sites should indicate their interest and willingness to work with the national evaluator in their applications. Any additional costs associated with the independent evaluation will be borne primarily by the national evaluator, although some incidental costs may be covered by the evaluation set-aside required of all applicants for funding. (This set-aside is described in the budget section below.)

Comprehensive Services sites selected for independent evaluation will be required to assist the independent evaluator in collecting data and maintaining records including victims' demographic information, number and types of referrals to services, and documentation of services delivered. The evaluation of Comprehensive Services sites also may include surveys and interviews of victims, service providers, and government and community stakeholders. (To ensure victim confidentiality and victim/witness security, evaluation interviews will not be conducted in open investigations or prosecutions.) Qualitative and quantitative data will be collected. The evaluation will seek to identify the range of services required for a comprehensive collaborative approach, document the impact of these services, identify how these services can most effectively be delivered and use this information to facilitate replication of comprehensive service models in other communities.

The evaluation may consider some of the following basic questions:

• What are the obstacles faced by the community in providing services for trafficking victims?

• What needs and resources were identified through the community assessment?

• Is there a viable network of services to adequately and appropriately respond to the needs of trafficking victims?

• Has there been an increase in the number of trafficking victims being identified and served? If so, what is the increase?

• What additional or enhanced services have been provided?

• Have previously unserved victims received services?

• What approaches were successful in overcoming obstacles to establish or enhance services for trafficking victims?

• How were these approaches developed and implemented?

• How do grantees plan to sustain their victim service programs after OVC funding ends?

B. Supplemental/Specialized Services

OVC anticipates that many communities nationwide will need assistance in providing appropriate and adequate services for trafficking victims in the United States, often on a rapid-response and episodic basis. This is especially true in areas where trafficking victims are identified for the first time and where very limited services may be available, and in cases where there are multiple (i.e., large numbers of) victims with needs that exceed services available in a given community. The purpose of Supplemental/Specialized Services awards are to support victim services in such communities by providers that have the capacity to marshal resources on an as-needed basis anywhere throughout the United States or a large geographic region of the United States (such as the Northeast, Southeast, Midwest, Northwest, or Southwest). Examples of specialized and/or supplemental services for trafficking victims include, but are not limited to, shelter/housing, legal services, and mental health/counseling services.

Shelter/Housing

Shelter/housing for trafficking victims presents a unique set of challenges for service providers primarily because there is a shortage of safe, appropriate, and adequate temporary housing for victims. Men, women, and children who are trafficking victims have a critical need for immediate, short- and/or long-term shelter. In particular, appropriate and safe housing is needed in place of custodial detention by Federal or state criminal justice systems. Existing shelter options, such as domestic violence or homeless shelters, often have scarce resources to meet the needs of the discrete populations they are intended to serve. In addition, many existing shelters are able to house individuals only for brief periods of time, are not equipped with special resources trafficking victims need, such as multilingual staff and heightened security, or have other restrictions that might preclude trafficking victims.

Thus, supplemental/specialized services awards may be used to address trafficking victims' shelter/housing needs. Providers of appropriate and adequate shelter/housing for trafficking victims should have the capacity to accommodate emergency and longer-term residents; single or large numbers of victims; male, female, and juvenile victims, and victims' family members (parents, spouses, and children); victims from diverse cultural, linguistic, and religious backgrounds; and victims of various forms of trafficking (such as sex trafficking, forced labor, and domestic servitude). Applicants with limited capacity to accommodate only certain types of victims (e.g., women only, individuals without dependents only) should clearly indicate this in their application. OVC is especially interested in receiving proposals from applicants with the capacity to house victims for whom shelter/housing options are particularly scarce, such as minors or victims with dependents.

Due to the intensive case management needs of trafficking victims, shelter/housing providers also should offer in-house victim services and case management or have the capacity and willingness to collaborate with community-based services in the locality where they are providing shelter/housing resources. Shelter providers also should describe their capacity to conduct necessary and appropriate intake assessments, such as health, mental health, and safety evaluations, primarily to identify victim needs, but also to minimize health and safety risks to other shelter residents.

Applicants for Supplemental/Specialized Services awards should describe their capacity to provide housing to victims of trafficking based on existing resources. Applicants also should indicate the geographic area in which they have the capacity to provide shelter/housing services.

Legal Services

Trafficking victims have a critical need for appropriate and adequate legal services.

Victims often lack knowledge/information about their legal rights, the legal process, or the services available to them. In cases where victims have been trafficked into the United States from other countries, victims' immigration status also is an issue. Applicants for Supplemental/Specialized Services funding should be legal service providers versed in relevant legal areas, have an understanding of federal criminal laws and procedure, and be culturally sensitive.

Funding for Supplemental/Specialized Services may be used to provide legal counsel to service providers in assisting trafficking victims with their various legal needs as part of a network of comprehensive, integrated victim services. Legal service providers applying for Supplemental/Specialized Services funding should demonstrate a willingness and capacity to establish working relationships with Comprehensive Services sites and other NGOs/service providers (such as shelters, mental health and medical care providers, immigrant advocacy providers, and faith-based organizations) for collaboration and cooperation in providing adequate and appropriate services to trafficking victims. Applicant(s) should demonstrate an understanding of legal procedure in federal, state, and local justice systems and an awareness of the need to coordinate with law enforcement and other NGOs to provide appropriate and adequate legal services. Applicants should further indicate how they would perform such outreach and coordination in any given location and define the geographic area in which they have the capacity to provide legal services.

Mental Health/Counseling Services

Trafficking victims often experience extreme isolation, degradation, and abuse by their traffickers. Traffickers frequently deny mental health and medical treatment to victims to control or punish them, keep them from being discovered, and avoid incurring the expense of such care. Trafficking victims need mental health and medical assessment and treatment by providers who are versed in the dynamics of victimization, trauma issues, and appropriate interventions. Ideally, trafficking victims should receive such services from practitioners who are proficient in the victim's language and knowledgeable about the culture.

Applicants for Supplemental/Specialized Services to provide mental health services should describe their capacity to offer culturally competent services, including the language(s) in which services could be delivered. Applicants also should describe the geographic areas in which they have the capacity to serve victims and discuss their capacity to assess and treat victims (including the maximum number of victims that could be treated, length of time services could be offered, and number and type of treatment that could be provided) on short notice.

Additional General Information for Supplemental/Specialized Services Awards

Generally, Supplemental/Specialized Services funds may be used to support an entity or network that will provide appropriate and adequate housing, legal, mental health counseling, or other relevant form of assistance for victims of trafficking anywhere throughout the United States (or a large geographic region of the United States) on short notice. If more than one organization or agency proposes to form a network of providers to deliver Supplemental/Specialized Services, the application must identify one entity as the lead agency for purposes of grant administration and project coordination.

Regardless of the type of victim services proposed, applications should further describe applicants' capacity to provide Supplemental/Specialized Services:

• With very little notice and lead time.

• In any location nationwide or within a broad geographic region.

• For large numbers of victims.

• For victims with special needs or for whom resources may be even more limited, such as minors or victims with disabilities.

• For victims from diverse cultural and linguistic backgrounds.

• For victims who have experienced distinct or multiple forms of victimization (physical and sexual assault, forced labor, denial of medical care, etc.).

Applicants for Supplemental/Specialized Services funds must commit to collaborating as appropriate with recipients of funding for Comprehensive Services, and to the extent possible, with other service providers throughout the country who are addressing the needs of trafficking victims. In addition to the particular Supplemental/Specialized Services they propose to provide to victims, applicants should indicate their capacity to coordinate with Comprehensive Services funding recipients (and other service providers, as applicable) to ensure trafficking victims have access to the full range of victim services identified in the “Comprehensive Services” section.

Project Management: For both types of awards, Comprehensive Services and Supplemental/Specialized Services, the management structure, staffing, and overall organizational capability must be adequate to conduct projects successfully. Applicants must demonstrate that the project will be appropriately staffed and that key staff have significant experience in providing services and collaborating with other community resources.

Specifically, applications should provide evidence of the degree to which applicants possess:

• Experience in providing or the ability to provide services to a diverse or immigrant population.

• Understanding of crime victimization and resulting trauma.

• Knowledge of victims' rights and remedies.

• Experience in or the ability to make referrals to or to provide appropriate services.

• Ability to work in coordination with other (governmental and nongovernmental) agencies, such as benefits-issuing agencies.

• Cultural sensitivity.

Performance Measurement: To ensure compliance with the Government Performance and Results Act (GPRA), Public Law 103-62, this solicitation notifies applicants that funding recipients will be required to collect and report data that measure the results of the projects implemented under this program. To ensure accountability for this data, the following performance measures are provided:

• Conduct a needs assessment in each Comprehensive Services site to identify gaps in existing services and available resources.

• Establish or enhance services in each Comprehensive Services site for victims of trafficking in the community based on findings from the needs assessment.

• Develop a plan for sustainability of the Comprehensive Services and Supplemental/Specialized Services after OVC project funding ends.

Award recipients will be required to document achievement of these measures in periodic progress reports submitted to OVC. Award recipients also will be required to provide a copy of the needs assessment tool and major findings and a copy of the preliminary plan to establish or enhance victim services in their community.

Eligibility Requirements: By statute, grants under this program may be awarded to states, Indian tribes, units of local government, and nonprofit, nongovernmental victims' service organizations.

For the purposes of this program, a unit of local government is any city, county, township, town, borough, parish, village, or other general-purpose political subdivision of a state, including local courts, law enforcement agencies, prosecutor's offices, and shelters.

Selection Criteria: All applicants for Comprehensive Services funding and Supplemental/Specialized Services funding must address each of the following criteria in their applications, unless otherwise indicated. Applications will be rated by a review panel on the extent to which they meet the criteria below.

1. Problem(s) To Be Addressed

The problem statement should discuss how the characteristics of trafficking victims and existing resources demonstrate the need for trafficking victim services. Applicants must identify the community or geographic area in which the project will operate. The priority selection criteria and indicators of community need are identified earlier in this solicitation under the Program Strategy subsections for Comprehensive Services and Supplemental/Specialized Services.

2. Goals and Objectives

Applicants are encouraged to be realistic in developing their projects' goals and objectives. The overall goals of the project must be clearly defined and linked to the needs of trafficking victims set forth in the “Problem(s) To Be Addressed” section (above). Applicants must be specific in addressing identified problems. Each applicant must include a statement of purpose that describes the expected outcomes and achievements for the project period.

Project goals must be stated in clear and measurable terms so that project staff can track the project's progress. Project objectives must be clearly defined, measurable, and described. Objectives must be stated as a list of quantifiable activities that will assist applicants in achieving project goals.

3. Program Strategy/Design

The project design must be sound and contain programmatic elements directly linked to the achievement of the project's goal(s) and objectives. Specific information must be included about the types of services to be provided, the geographic community(ies) or area(s) where the services are provided, and any restrictions that might limit the provision of specific services to a victim or a certain geographic area. In addition, applications should describe the ability of the service provider(s) to perform, at a minimum, the implementation steps listed below.

For Comprehensive Services Awards:

Receipt of victim referrals

Initial intake and assessment of victims' needs

Development of individualized victim service plans

Provision and coordination of services

Periodic assessment of whether victims' needs are being met

Modification of services as appropriate throughout victims' recovery

Number and range of victims for whom appropriate services will be made available (e.g., women, men, children, victims of one or more forms of trafficking)

Range of time that services can be provided (e.g., days, weeks, months; business hours/24 hours)

For Supplemental/Specialized Services Awards:

Process for providing a particular victim service in response to urgent requests

Number and range of victims for whom appropriate services will be made available (e.g., women, men, children, victims of one or more forms of trafficking)

Range of time that services can be provided (e.g., days, weeks, months; business hours/24 hours)

All applicants (Comprehensive Services and Supplemental/Specialized Services) should further discuss their capacity to provide services:

• To accommodate fluctuating numbers of victims, but particularly large numbers of victims, on short notice.

• To serve victims with special needs or for whom resources may be even more limited, such as juveniles or persons with disabilities.

• To victims from diverse cultural and linguistic backgrounds.

• To victims who have experienced distinct or multiple forms of victimization (physical and sexual assault, forced labor, denial of medical care, etc.).

• That address the safety and security concerns experienced by trafficking victims.

All applicants must include a workplan/timeline chart for each year of the project period. The timeline must include the tasks to be completed to meet the project objectives, the months in which the tasks will be accomplished, the staff person(s) or entities responsible for completing each task. Applicants should describe the nature of all products (such as service delivery protocols) to be developed and note anticipated completion dates for each.

4. Program Management and Organizational Capability

All applicants will be evaluated on their capability to conduct the project successfully. The applicant organization's or agency's history of working collaboratively with other community agencies and their experience in serving diverse crime victims will be assessed. Applicants must demonstrate that proposed projects will be staffed appropriately with qualified persons to perform each of the project tasks. For each staff position, applicants must provide a resume (if specific staff have been identified) or job description (if staff have not yet been identified) in an appendix.

All applicants must describe their existing or proposed information management system and how it will support their capability to perform case management and collect data related to trafficking victims and the services provided to them. Specifically, applicants should describe the data they currently collect (if any) regarding their operations, including their capacity to track victims, the services provided to them, and the outcomes for victims (i.e., impact of services).

Applicants for Comprehensive Services awards will be required to enter into a collaborative working relationship with complementary government and NGOs to create a comprehensive, systemic response to trafficking victims. To demonstrate their capacity and willingness to do this, these applicants also must provide a copy of the signed Letter of Intent described above in “Comprehensive Services: Coalition Building and Outreach.”

Applicants for Supplemental/Specialized Services awards also will be required to work collaboratively with other agencies and organizations to support a comprehensive, systemic response to trafficking victims. These applicants must state their willingness and capacity to do this in their applications for funding.

5. Program Evaluation

All applications must contain a plan for evaluating the accomplishment of project objectives. Applicants must describe what evaluation data will be gathered and analyzed and the resources that are being committed for this purpose. In determining the quality of the evaluation plan, the following factors will be considered:

• Extent to which the evaluation plan will provide the kind of information that contributes to the effectiveness of management and administration of the project, documents that objectives have been met, and determines the overall effectiveness of the project.

• Extent to which the proposed methods of evaluation are thorough, feasible, and appropriate to the goals, objectives, and outcomes of the proposed project.

• Adequacy of the identified performance measures to demonstrate whether and to what extent the proposed strategy is meeting its short-term, intermediate, and long-term objectives.

6. Budget

All applicants (Comprehensive Services and Supplemental/Specialized Services) must provide a proposed budget and budget narrative for the proposed project. The budget must be complete, detailed, reasonable, allowable, and cost effective in relation to the activities proposed. OVC prefers that applicants use the Budget Detail Worksheet/Budget Narrative form (OJP Form 7150/1) provided in Section II of the application kit.

All applicants (Comprehensive Services and Supplemental/Specialized Services) must indicate in their budgets the amount of project funds for applicable standard program costs such as personnel, fringe benefits, equipment, supplies, travel, consultants/contracts, and indirect costs. In addition, under the category of “Other Costs,” budgets must indicate the total average projected cost of providing direct services to victims, based on a calculation of the number of victims anticipated to be served, the average anticipated number and type of services to be provided, and the average anticipated number of days services would be provided. Please see the sample budget detail sheet in the Forms Appendix of the Application Kit for an example.)

All applicants (Comprehensive Services and Supplemental/Specialized Services) should anticipate either a post-award meeting with the OVC program monitor or an OVC meeting for discretionary grantees each year of the project. For these meeting costs, applicants outside the Washington, DC, metropolitan area should budget $1,000 for travel, lodging, and per diem costs for one key project staff person to attend the meeting.

All applicants (Comprehensive Services and Supplemental/Specialized Services) also must set funds aside in their proposed budgets to support collaboration with the national training and technical assistance provider and evaluator for the Trafficking Program.

Specifically, all applicants must budget for the travel, lodging, and per diem expenses of project staff to attend one 2-day training event and meeting for all award recipients for each year of the project. (For Comprehensive Services sites, this should include the project director and one other key staff person; for Supplemental/Specialized Services, this should include one key staff person.) The location of this 2-day meeting will be determined at a later date. For budgeting purposes, applicants from the West Coast and Midwest should budget for these meetings to be held in Washington, DC. Applicants from the East Coast should budget for these meetings to be held on the West Coast. The purpose of this meeting will be to provide training and technical assistance and review program implementation, evaluation, and other related programmatic matters.

Applicants also must budget costs to attend one Financial Management Training Seminar sponsored by the Office of Justice Programs, Office of the Comptroller. Specific information (such as dates and locations of upcoming training events) to assist grantees in estimating such costs can be found at www.ojp.usdoj.gov/oc/fmts.htm and www.ncja.org/financial_management.html.

In addition to these amounts, all applicants should set aside 5 percent of budgeted project funds to support a range of ongoing training and technical assistance for program staff and 5 percent of budgeted project funds to support project evaluation. These set-asides should be indicated as line-item budget costs to provide flexibility and resources so that award recipients may benefit from training, technical assistance, and evaluation activities to develop, expand, or strengthen trafficking victim services.

By statute, federal funds for this project may not exceed 75 percent of total project costs; therefore, federal funds may be used to pay up to 75 percent of the total costs of a victim services project. The matching requirement is 25 percent of total project costs. Applicants should apply the match requirement over and above the total amount requested. (For example, if the grant award is $75,000, the total project cost would be $100,000. The match would therefore be $25,000 or 25 percent of total project costs.) The matching requirement may be met through cash or in-kind contributions, or a combination of both.

Additional Selection Considerations

In addition to the selection criteria listed above, the Office for Victims of Crime also may consider the community setting of applicants (urban, suburban, rural), regional balance, and the extent to which the priority selection criteria are met and documented when making awards. Applicants from small organizations are specifically invited to apply. Applicants must not discriminate based on the type of labor or services that victims were forced to perform.

Application: Applicants must follow the guidance provided in Section II of the Application Kit.

Dated: June 11, 2002.
John W. Gillis,
Director, Office for Victims of Crime.

[FR Doc. 02-15149 Filed 6-14-02; 8:45 am]

BILLING CODE 4410-18-P